DEPARTMENT OF HEALTH AND HUMAN SERVICES

National Institutes of Health

National Institute of Mental Health; Amended Notice of Workgroup Meeting

Notice is hereby given of a change in the meeting of the Strategic Planning Implementation Workgroup organized by the Interagency Autism Coordinating Committee (IACC). This telephone conference meeting will be held on August 8, 2008, from 11 a.m. to 3 p.m. EDT, at the Neuroscience Center, Conference Room A, 6001 Executive Boulevard, Rockville, MD 20892. Notice of this workgroup meeting was published in the Federal Register on July 31, 2008, 73 FR 44756.

Audio of this workgroup meeting will now be accessible to the public via a teleconference phone link and there will be Web-based access to information displayed at the meeting via computer/projector.

Access information:

Phone Number: 888-455-2920.

Access Number: 3857872.

Webinar registration address: https://www1.gotomeeting.com/register/921061447.

Attendance at the meeting will be limited due to space available.

The purpose of the workgroup meeting is to discuss future budgetary requirements for the IACC Strategic Plan for Autism Spectrum Disorder (ASD) Research.

The workgroup findings will be forwarded to the IACC for consideration and discussion at the next committee meeting on November 21, 2008.

Information about the IACC is available on the Web site: http://www.nimh.nih.gov/research-funding/scientific-meetings/recurring-meetings/iacc/index.shtml.

Dated: August 1, 2008.
Jennifer Spaeth,
Director, Office of Federal Advisory Committee Policy.

[FR Doc. E8-18245 Filed 8-7-08; 8:45 am]

BILLING CODE 4140-01-P